DEPARTMENT OF COMMERCE

International Trade Administration

[A-588-804]

Ball Bearings and Parts Thereof from Japan: Rescission of Amended Final Results of Antidumping Duty Administrative Review

AGENCY: Import Administration, International Trade Administration, Department of Commerce.

EFFECTIVE DATE: July 11, 2007.

FOR FURTHER INFORMATION CONTACT: Catherine Cartsos or Richard Rimlinger, AD/CVD Operations, Office 5, Import Administration, U.S. Department of Commerce, 14th Street and Constitution Avenue, NW, Washington, DC 20230; telephone: (202) 482-1757 or (202) 482-4477, respectively.

Rescission of Amended Final Results

On July 11, 2007, the Department of Commerce (the Department) published amended final results of the administrative review of the antidumping duty order on ball bearings and parts thereof from Japan for the period May 1, 2000, through April 30, 2001. See Ball Bearings and Parts Thereof from Japan: Amended Final Results of Antidumping Duty Administrative Review, 72 FR 37702 (July 11, 2007) (Amended Final Results). We published the Amended Final Results, which reflected a court decision, mistakenly before that decision became final and conclusive. Therefore, the Department is rescinding those Amended Final Results.

Dated: July 16, 2007.
Stephen J. Claeys,
Deputy Assistant Secretary for Import Administration.

[FR Doc. E7-14160 Filed 7-20-07; 8:45 am]

BILLING CODE 3510-DS-S